ENVIRONMENTAL PROTECTION AGENCY

40 CFR Part 273

Standards for Universal Waste Management

CFR Correction

In Title 40 of the Code of Federal Regulations, Parts 266 to 299, revised as of July 1, 2006, in § 273.9, on page 463, in alphabetical order, reinstate the definition of “On-site” to read as follows:

§ 273.9 Definitions.

* * * * *

On-site means the same or geographically contiguous property which may be divided by public or private right-of-way, provided that the entrance and exit between the properties is at a cross-roads intersection, and access is by crossing as opposed to going along the right of way. Non-contiguous properties owned by the same person but connected by a right-of-way which he controls and to which the public does not have access, are also considered on-site property.

* * * * *

[FR Doc. 07-55505 Filed 6-28-07; 8:45 am]

BILLING CODE 1505-01-D